DEPARTMENT OF TRANSPORTATION

Federal Aviation Administration

14 CFR Part 39

[Docket No. 2001-NM-284-AD]

RIN 2120-AA64

Airworthiness Directives; Airbus Model A330 and A340-200 and -300 Series Airplanes

AGENCY: Federal Aviation Administration, DOT.

ACTION: Notice of proposed rulemaking (NPRM).

SUMMARY: This document proposes the adoption of a new airworthiness directive (AD) that is applicable to certain Airbus Model A330 and A340-200 and -300 series airplanes. This proposal would require repetitive inspections for proper installation of the parachute pins located in the escape slides/rafts at the door 3 Type I emergency exits on the left and right sides of the airplane; a one-time inspection of the associated electrical harnesses for the escape slides/rafts for proper routing and installation; and corrective actions if necessary. This proposal also would require adjustment of the speed lacing for the soft covers of the escape slides/rafts, which would terminate the repetitive inspections. This action is necessary to prevent failure of the escape slides/rafts to deploy correctly at door 3 Type I emergency exits, which could result in the escape slides/rafts being unusable during an emergency evacuation, and consequent injury to passengers or crew members. This action is intended to address the identified unsafe condition.

DATES: Comments must be received by January 5, 2004.

ADDRESSES: Submit comments in triplicate to the Federal Aviation Administration (FAA), Transport Airplane Directorate, ANM-114, Attention: Rules Docket No. 2001-NM-284-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM284-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-284-AD.” The postcard will be date stamped and returned to the commenter.

Availability of NPRMs

Any person may obtain a copy of this NPRM by submitting a request to the FAA, Transport Airplane Directorate, ANM-114, Attention: Rules Docket No. 2001-NM-284-AD, 1601 Lind Avenue, SW., Renton, Washington 98055-4056.

Discussion

The Direction Generale de l'Aviation Civile (DGAC), which is the airworthiness authority for France, notified the FAA that an unsafe condition may exist on certain Airbus Model A330 and A340-200 and -300 series airplanes. The DGAC advises that, during a scheduled maintenance operation, an escape slide/raft at a door 3 Type I emergency exit did not deploy. Further investigation revealed that the parachute pin was not correctly installed and had rotated from its normal position and dropped through the first section of lacing on the soft cover of the escape slide/raft, which prevented the soft cover from opening the escape slide/raft. During another inspection it was discovered that the electrical harness associated with the escape slide/raft was not correctly installed and was not properly routed. Incorrect installation and/or routing of the electrical harness could prevent slide/raft detachment from the door after inflation. These conditions, if not corrected, could result in failure of the escape slides/rafts to deploy correctly at door 3 Type I emergency exits, on the left and right sides of the airplane, which could result in the escape slides/rafts being unusable during an emergency evacuation, and consequent injury to passengers or crew members.

Explanation of Relevant Service Information

Airbus has issued All Operator Telexes (AOT) A330-25A3154 (for Model A330 series airplanes) and A340-25A4172 (for Model A340-200 and -300 series airplanes), both dated July 26, 2001. These AOTs describe procedures for repetitive inspections for proper installation of the parachute pins located in the escape slides/rafts at the door 3 Type I emergency exits, on the left and right sides of the airplane, a one-time detailed inspection for proper installation and routing of the associated electrical harnesses; and corrective actions if necessary. Corrective actions for the parachute pins include adjustment of the speed lacing for the soft cover of the escape slides/rafts to prevent the parachute pins from moving from their original position. This action eliminates the need for the repetitive inspections of the parachute pins. Corrective actions for the electrical harnesses include relocating the quick-disconnect connectors. Accomplishment of the actions specified in the AOTs is intended to adequately address the identified unsafe condition. The DGAC classified these AOTs as mandatory and issued French airworthiness directives 2001-359(B) R3, dated October 30, 2002, and 2001-360(B) R1, dated February 6, 2002, to ensure the continued airworthiness of these airplanes in France.

Both AOTs reference Goodrich Aircraft Evacuation Systems Alert Service Bulletin 7A1509-25A324, dated July 16, 2001, as an additional source of service information for adjusting the speed lacing.

FAA's Conclusions

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the applicable Airbus AOT described previously, except as discussed below.

Difference Between Proposed Rule and Referenced AOTs

Operators should note that, although the referenced AOTs describe procedures for reporting inspection results to Airbus, this proposed AD would not require those actions. The FAA does not need this information from operators.

Cost Impact

The FAA estimates that 14 Model A330 series airplanes of U.S. registry would be affected by this proposed AD, and that it would take approximately 1 work hour per airplane to accomplish the proposed inspections at the average labor rate of $65 per work hour. Based on these figures, the cost impact of the proposed inspections on U.S. operators is estimated to be $910, or $65 per airplane.

It would take approximately 3 work hours per airplane to adjust the speed lacing for the escape slide/raft soft cover at an average labor rate of $65 per work hour. Based on these figures, the cost impact of the proposed adjustment of the speed lacing for the escape slide/raft soft cover on U.S. operators is estimated to be $2,730, or $195 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Model A340 series airplanes on the U.S. Register. However, should an affected airplane be imported and placed on the U.S. Register in the future, it would require 1 work hour per airplane to accomplish the proposed inspections and 3 work hours per airplane to accomplish the proposed adjustment of the speed lacing for the escape slide/raft soft cover, at an average labor rate of $65 per work hour. Based on these figures, the cost impact of the proposed AD for Model A340 operators would be $260 per airplane.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2001-NM-284-AD.

Applicability: Model A330 and A340-200 and -300 series airplanes equipped with an escape slide/raft having any part ­number (P/N) 7A1509-101 through 7A1509-117 inclusive, and any serial number AD001 through AD0855 inclusive, at door 3 Type I emergency exits; certificated in any category.

Compliance: Required as indicated, unless accomplished previously.

To prevent failure of the escape slides/rafts to deploy correctly at door 3 Type I emergency exits, which could result in the escape slides/rafts being unusable during an emergency evacuation, and consequent injury to passengers or crew members, accomplish the following:

Inspections

(a) Within 550 flight hours after the effective date of this AD: Do a detailed inspection of the escape slides/rafts located at door 3 Type I emergency exits, on the left and right sides of the airplane, for correct installation of the parachute pins, and a one-time detailed inspection of the associated electrical harnesses for correct installation of the quick-disconnect connector, in accordance with paragraphs 4.1 and 4.2 of Airbus All Operator Telex (AOT) A330-25A3154 (for Model A330 series airplanes) or A340-25A4172 (for Model A340-200 and -300 series airplanes), dated July 26, 2001; as applicable. If any parachute pin or quick disconnect connector is incorrectly installed, before further flight, do the corrective actions per the applicable AOT. Repeat the inspections of the parachute pins thereafter at intervals not to exceed 1,000 flight hours until accomplishment of paragraph (b) of this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: Repetitive inspections of the electrical harnesses are not required.

Terminating Action for Repetitive Inspections

(b) Within 18 months after the effective date of this AD: Adjust the speed lacing for the soft covers of the escape slides/rafts located at door 3 Type I emergency exits, in accordance with paragraph 4.3 of Airbus AOT A330-25A3154 (for Model A330 series airplanes) or A340-25A4172 (for Model A340-200 and -300 series airplanes), both dated July 26, 2001; as applicable. This adjustment terminates the repetitive inspections of the parachute pins required by paragraph (a) of this AD.

Note 3: The AOTs reference Goodrich Aircraft Evacuation Systems Alert Service Bulletin 7A1509-25A324, dated July 16, 2001, as an additional source of service information for adjusting the speed lacing.

Parts Installation

(c) As of the effective date of this AD, no person may install on any airplane an escape slide/raft having any P/N 7A1509-101 through 7A1509-117 inclusive unless the parachute pin has been inspected and the speed lacing has been adjusted in accordance with paragraphs (a) and (b) of this AD.

Alternative Methods of Compliance

(d) In accordance with 14 CFR 39.19, the Manager, International Branch, ANM-116, FAA, Transport Airplane Directorate, is authorized to approve alternative methods of compliance for this AD.

Note 4: The subject of this AD is addressed in French airworthiness directives 2001-359(B) R3, dated October 30, 2002, and 2001-360(B) R1, dated February 6, 2002.

Issued in Renton, Washington, on November 28, 2003.
Kevin Mullin,
Acting Manager, Transport Airplane Directorate, Aircraft Certification Service.

[FR Doc. 03-30223 Filed 12-4-03; 8:45 am]

BILLING CODE 4910-13-P